DEPARTMENT OF COMMERCE

Submission for OMB Review; Comment Request

The Department of Commerce (DoC) has submitted to the Office of Management and Budget (OMB) for clearance the following proposal for collection of information under the provisions of the Paperwork Reduction Act (44 U.S.C. chapter 35).

Agency: Patent and Trademark Office (PTO).

Title: Requirements for Patent Applications Containing Nucleotide Sequence and/or Amino Acid Sequence Disclosures.

Form Numbers: N/A.

Agency Approval Number: 0651-0024.

Type of Request: Reinstatement, with change, of a previously approved collection for which approval has expired.

Burden: 5,283 hours annually.

Number of Respondents: 5,601 responses annually.

Avg. Hours Per Response: Based on PTO time and motion studies, the agency estimates that it will take the public 80 minutes to create a nucleotide/amino acid sequence listing in an application. In the electronic version of the sequence listing, EFS BIO, it is estimated that it will take 10 minutes to create and submit a sequence listing in an application.

Needs and Uses: Nucleotide and amino acid sequence disclosure information is used by the PTO during the examination process to determine the patentability of an application by effectively examining the sequences in order to process the data more efficiently. The PTO also uses the data after examination to support publication of issued patents. In addition, the sequences are used by the PTO during participation with the European and Japanese Patent Offices in a Trilateral Sequence Exchange project, thereby facilitating the international exchange of published sequence data. After patent publication, the public and the bar associations can search the nucleotide/amino acid sequence listings. Applicants use the sequence data when preparing both national and international patent applications.

Affected Public: Individuals or households, business or other for-profit institutions, not-for-profit institutions, farms, the Federal government, and state, local, or tribal governments.

Frequency: As applied for when patent applicants submit a patent application (both national and international applications) containing nucleotide and/or amino acid sequence disclosure data within their patent applications.

Respondent's Obligation: Required to obtain or retain benefits.

OMB Desk Officer: David Rostker, (202) 395-3897.

Copies of the above information collection proposal can be obtained by calling or writing Linda Engelmeier, Departmental Forms Clearance Officer, Office of the Chief Information Officer, (202) 482-3272, Department of Commerce, Room 5027, 14th and Constitution Avenue, NW, Washington, DC 20230 or via e-mail at LEngelme@doc.gov).

Written comments and recommendations for the proposed information collection should be sent within 30 days of publication to David Rostker, OMB Desk Officer, Room 10202, New Executive Office Building, Washington, DC 20503.

Dated: April 4, 2000.
Linda Engelmeier,
Departmental Forms Clearance Officer, Office of the Chief Information Officer.

[FR Doc. 00-8882 Filed 4-10-00; 8:45 am]

BILLING CODE 3510-16-P